DEPARTMENT OF AGRICULTURE

National Institute of Food and Agriculture

Notice of Intent to Renew an Existing Information Collection

AGENCY: National Institute of Food and Agriculture, USDA.

ACTION: Notice and request for comments.

SUMMARY: In accordance with the Paperwork Reduction Act of 1995 and Office of Management and Budget (OMB) regulations, that implement the Paperwork Reduction Act of 1995, this notice announces the National Institute of Food and Agriculture's (NIFA) intention to request a renewal of an existing information collection.

DATES: Written comments on this notice must be received on or before September 21, 2015 to be assured of having their full effect.

ADDRESSES: You may submit comments by any of the following methods:

Federal Rulemaking Portal: http://www.regulations.gov Follow the instructions for submitting comments.

Email: rmartin@nifa.usda.gov Fax: (202) 720-0857

Mail: Office of Information Technology (OIT), NIFA, USDA, STOP 2216; 1400 Independence Avenue SW.; Washington, DC 20250-2216.

FOR FURTHER INFORMATION CONTACT: Robert Martin; Records Officer; Email: rmartin@nifa.usda.gov.

SUPPLEMENTARY INFORMATION:

Proposed Collection

Title: Veterinary Medicine Loan Repayment Program (VMLRP) Veterinarian Shortage Situation Nomination.

OMB Number: 0524-0046.

Type of Request: Request renewal of an existing information collection for three years.

Abstract: NIFA established a process to designate veterinarian shortage situations for the VMLRP as authorized under section 1415A of the National Agricultural Research, Extension, and Teaching Policy Act of 1977 (NARETPA). This information collection applies to Subpart A of 7 CFR part 3431.

Estimate of Burden: NIFA used burden estimates from the current REEPORT collection to estimate the burden, but anticipates the transactions for project initiation may be reduced because grant application information will be used to prepopulate many fields. The total annual burden for the non Research Performance Progress Report (RPPR) portion of this collection is 36,760 hours and 23,490 hours for the RPPR.

Method of Collection: The information collection (nomination form) is available on the NIFA Web site and nominators are required to make submissions by emailing the completed forms to vmlrp@nifa.usda.gov.

Frequency of Response: Annual nominations.

Type of Respondents: Animal Health Official of each state and insular area.

Estimated Number of Respondents: 57 respondents.

Estimated Number of Responses: 267 respondents (range of 1 to 8 for each nominating entity).

Estimated Total Annual Burden on Respondents: 534 hours.

Request for Comments: Comments submitted in response to this notice will be summarized and/or included in the request for OMB approval of the information collection. All comments will become a matter of public record. Comments are invited on: (a) Whether the proposed collection of information is necessary for the proper performance of the functions of the VMLRP, including whether the information will have practical utility; (b) the accuracy of the public burden estimate (the estimated amount of time needed for individual respondents to provide the requested information), including the validity of the methodology and assumptions used; (c) ways to enhance the quality, utility, and clarity of the information to be collected; and (d) ways to minimize the public burden through the use of appropriate automated, electronic, mechanical, or other technological collection techniques or other forms of information technology.

Obtaining a Copy of the Information Collection: A copy of the information collection and related instructions may be obtained free of charge by contacting Robert Martin by telephone, (202) 401-5924, or by email, rmartin@nifa.usda.gov. Information is also available at: http://www.nifa.usda.gov/vmlrp.

Done in Washington, DC this 15 day of July, 2015.
Ann Bartuska,
Deputy Under Secretary Research, Education, and Economics.

[FR Doc. 2015-18061 Filed 7-22-15; 8:45 am]

BILLING CODE 3410-22-P